DEPARTMENT OF THE INTERIOR

[FWS-R4-ES-2022-N050; FVHC98220410150-XXX-FF04H00000]

Deepwater Horizon Oil Spill Louisiana Trustee Implementation Group Final Phase 2 Restoration Plan/Environmental Assessment #7.1: Terrebonne HNC Island Restoration Project; and Finding of No Significant Impact

AGENCY: Department of the Interior.

ACTION: Notice of availability.

SUMMARY: In accordance with the Oil Pollution Act of 1990 (OPA), the National Environmental Policy Act of 1969 (NEPA), the Deepwater Horizon Oil Spill Final Programmatic Damage Assessment Restoration Plan and Final Programmatic Environmental Impact Statement (Final PDARP/PEIS), Record of Decision (ROD) and the Consent Decree, the Federal and State natural resource trustee agencies for the Louisiana Trustee Implementation Group (LA TIG) have prepared the Final Phase 2 Restoration Plan/Environmental Assessment #7.1: Terrebonne HNC Island Restoration Project (Final RP/EA #7.1) and Finding of No Significant Impact (FONSI). The Terrebonne HNC Restoration Project (HNC Island project) was approved for engineering and design (E&D) in a 2020 restoration plan entitled Louisiana Trustee Implementation Group Final Restoration Plan #7: Wetlands, Coastal, and Nearshore Habitats and Birds (RP/EA #7). In the Final RP/EA #7.1, the LA TIG analyzes a reasonable range of design alternatives for the HNC Island project and selects design alternative 7A for construction, under the “Birds” restoration type. A No Action alternative is also analyzed for the project. The purpose of this notice is to inform the public of the availability of the Final RP/EA #7.1 and FONSI.

ADDRESSES: Obtaining Documents: You may download the Final RP/EA #7.1 at https://www.gulfspillrestoration.noaa.gov/restoration-areas/louisiana.

FOR FURTHER INFORMATION CONTACT: Nanciann Regalado, at nanciann_regalado@fws.gov or 678-296-6805. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

On April 20, 2010, the mobile offshore drilling unit Deepwater Horizon (DWH), which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The DWH oil spill is the largest offshore oil spill in U.S. history, discharging millions of barrels of oil over a period of 87 days. In addition, well over 1 million gallons of dispersants were applied to the waters of the spill area in an attempt to disperse the spilled oil. An undetermined amount of natural gas was also released into the environment as a result of the spill.

The Trustees conducted the natural resource damage assessment (NRDA) for the DWH oil spill under the Oil Pollution Act 1990 (OPA; 33 U.S.C. 2701 et seq.). Pursuant to OPA, Federal and State agencies act as trustees on behalf of the public to assess natural resource injuries and losses and to determine the actions required to compensate the public for those injuries and losses. The OPA further instructs the designated trustees to develop and implement a plan for the restoration, rehabilitation, replacement, or acquisition of the equivalent of the injured natural resources under their trusteeship to baseline (the resource quality and conditions that would exist if the spill had not occurred). This includes the loss of use and services provided by those resources from the time of injury until the completion of restoration.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority, Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

On April 4, 2016, the United States District Court for the Eastern District of Louisiana entered a consent decree resolving civil claims by the Trustees against BP arising from the DWH oil spill: United States v. BPXP et al., Civ. No. 10-4536, centralized in MDL 2179, In re: Oil Spill by the Oil Rig Deepwater Horizon in the Gulf of Mexico, on April 20, 2010 (E.D. La.) (http://www.justice.gov/enrd/deepwater-horizon). Pursuant to the consent decree, restoration projects in the Louisiana Restoration Area are chosen and managed by the LA TIG. The LA TIG is composed of the following Trustees: State of Louisiana Coastal Protection and Restoration Authority, Oil Spill Coordinator's Office, Departments of Environmental Quality, Wildlife and Fisheries, and Natural Resources; DOI; NOAA; EPA; and USDA.

Background

The Final PDARP/PEIS provides for TIGs to propose phasing restoration projects across multiple restoration plans. A TIG may propose in a draft restoration plan conceptual projects to fund for an information-gathering planning phase, such as E&D (phase 1). This allows TIGs to develop information needed to fully consider a subsequent implementation phase in a later restoration plan (phase 2). In the final RP/EA #7, the LA TIG selected three conceptual projects for E&D, using funds from the “Wetlands, Coastal and Nearshore Habitats” and “Birds” restoration types, as provided for in the DWH Consent Decree. One of the projects selected for E&D in the Final RP/EA #7, the Terrebonne HNC Island project, reached a stage of design where proposed construction alternatives (phase 2) could be analyzed under the OPA NRDA regulations and NEPA.

The LA TIG made the Draft RP/EA #7.1 available for public review and comment via publication of a notice of availability in the Federal Register on August 25, 2022 (87 FR 52411). The public review and comment period ran through September 26, 2022. To facilitate public understanding of the document, the LA TIG held a public webinar on September 8, 2022, during which public comment was also solicited. The LA TIG received no comments during the public comment period. After public review, the LA TIG finalized the plan and selected design alternative 7A for construction.

Overview of the Final RP/EA #7.1

The Final RP/EA #7.1 and FONSI (Appendix C of the Final RP/EA #7.1) is being released in accordance with OPA NRDA regulations found in the Code of Federal Regulations (CFR) at 15 CFR part 990, NEPA and its implementing regulations found at 40 CFR parts 1500-1508, the Final PDARP/PEIS/ROD, and the Consent Decree. The Final RP/EA #7.1 provides the LA TIG's OPA, NRDA, and NEPA analyses for a reasonable range of design alternatives for the HNC Island project and selects the LA TIG's preferred design alternative, 7A, for implementation.

Alternative 7A would increase the acreage of the island from 27.6 acres (ac) to up to approximately 45 ac of shrub nesting, ground nesting, and marsh habitat. The approximate cost to complete E&D, construct, maintain, and monitor the selected alternative is $34 million. A second design alternative, 7, is also evaluated in the restoration plan, as well as a No Action alternative. Both HNC Island action alternatives would include a rock dike around the island perimeter, breakwaters, and a bird ramp. While the non-preferred alternative would create more total habitat acres (53.3 ac), the preferred alternative would provide a balance between constructability, feasibility, and creation of optimal habitat features for nesting birds, while minimizing environmental impacts during construction.

Administrative Record

The documents comprising the Administrative Record for the RP/EA #7.1 can be viewed electronically at https://www.doi.gov/deepwaterhorizon/adminrecord.

Authority

The authority for this action is the Oil Pollution Act of 1990 (33 U.S.C. 2701 et seq.), its implementing Natural Resource Damage Assessment regulations found at 15 CFR part 990, and the National Environmental Policy Act of 1969 (42 U.S.C. 4321 et seq.) and its implementing regulations found at 40 CFR parts 1500-1508.

Mary Josie Blanchard,
Director of Gulf of Mexico Restoration, Department of the Interior.

[FR Doc. 2022-25724 Filed 11-23-22; 8:45 am]

BILLING CODE 4333-15-P